DEPARTMENT OF HEALTH AND HUMAN SERVICES

National Institutes of Health

Government-Owned Inventions; Availability for Licensing

AGENCY: National Institutes of Health, HHS.

ACTION: Notice.

SUMMARY: The inventions listed below are owned by an agency of the U.S. Government and are available for licensing to achieve expeditious commercialization of results of federally-funded research and development. Foreign patent applications are filed on selected inventions to extend market coverage for companies and may also be available for licensing.

FOR FURTHER INFORMATION CONTACT: Chris Kornak, 240-627-3705, Chris.Kornak@nih.gov. Licensing information and copies of the U.S. patent applications listed below may be obtained by communicating with the indicated licensing contact at the Technology Transfer and Intellectual Property Office, National Institute of Allergy and Infectious Diseases, 5601 Fishers Lane, Rockville, MD 20852; tel. 301-496-2644. A signed Confidential Disclosure Agreement will be required to receive copies of unpublished patent applications.

SUPPLEMENTARY INFORMATION: Technology description follows.

HIV Targets CD62L on Central Memory T Cells Through Viral Envelope Glycans for Adhesion and Induces Selectin Shedding for Viral Release

Description of Technology

Despite the success of anti-retroviral therapy in controlling HIV in infected individuals, treatment is less effective at eliminating HIV viral reservoirs. The nature of HIV reservoirs and the factors controlling their size and release are a major research focus for achieving a cure for HIV/AIDS.

NIAID researchers have identified L-selectin/CD62L as a new target for treating HIV by inhibiting viral release from infected cells. They found that shedding of CD62L on T cells is required for the efficient release of HIV virus from infected cells. Further, they have shown that inhibition of CD62L shedding dramatically reduced HIV-1 infection and viral release from both viremic and aviremic CD4+ T cells. Therefore, inhibitors for CD62L sheddase can function as an anti-HIV treatment that may be effective alone or in combination with existing therapeutics.

This technology is available for licensing for commercial development in accordance with 35 U.S.C. 209 and 37 CFR part 404, as well as for further development and evaluation under a research collaboration.

Potential Commercial Applications

• New target for HIV therapeutic development.

Competitive Advantages

• This invention comprises a method of treating HIV using therapeutics geared toward viral release and entry, distinguishing it from other antiviral candidates with its method of action.

• CD62L is a new target for HIV

Development Stage

• In vitro studies; Proof-of-concept studies.

Inventors

Peter Sun, NIAID, NIH

Joseph Kononchik, NIAID, NIH

Joanna Ireland, NIAID, NIH

Ruiping Wang, NIAID, NIH

Intellectual Property: HHS Reference No. E-261-2015/0—PCT No. PCT/US2016/068713 filed 12/27/2016.

Licensing Contact: Chris Kornak, 240-627-3705, Chris.Kornak@nih.gov.

Collaborative Research Opportunity: The Technology Transfer and Intellectual Property Office (TTIPO) is seeking parties interested in collaborative research to further co-develop this technology by identifying pharmacological compounds inhibiting CD62L shedding by using high throughput compound screening. For collaboration opportunities, please contact Chris Kornak, 240-627-3705, Chris.Kornak@nih.gov.

Dated: August 15, 2017.
Suzanne Frisbie,
Deputy Director, Technology Transfer and Intellectual Property Office, National Institute of Allergy and Infectious Diseases.

[FR Doc. 2017-18137 Filed 8-25-17; 8:45 am]

BILLING CODE 4140-01-P